DEPARTMENT OF HOMELAND SECURITY

Coast Guard

33 CFR Part 165

[Docket No. USCG-2013-0320]

RIN 1625-AA00

Safety Zone, Chicago Harbor, Navy Pier Southeast, Chicago, IL

AGENCY: Coast Guard, DHS.

ACTION: Notice of enforcement of regulation.

SUMMARY: The Coast Guard will enforce the Navy Pier Southeast Safety Zone within the Chicago Harbor during specified periods from May 24, 2014, through January 1, 2015. This action is necessary and intended to ensure safety of life on the navigable waters of the United States immediately prior to, during, and immediately after various firework events. During the enforcement periods listed below, no person or vessel may enter the safety zone without permission of the Captain of the Port, Lake Michigan.

DATES: The regulations in 33 CFR 165.931 will be enforced at specified times between 10 p.m. on May 24, 2014, through 12:30 a.m. on January 1, 2015.

FOR FURTHER INFORMATION CONTACT: If you have questions on this notice, call or email MST1 John Ng, Waterways Management Division, Marine Safety Unit Chicago, telephone 630-986-2122, email address john.h.ng@uscg.mil.

SUPPLEMENTARY INFORMATION: The Coast Guard will enforce the Safety Zone; Chicago Harbor, Navy Pier Southeast, Chicago, IL listed in 33 CFR 165.931, on each Saturday from 10 p.m. until 10:30 p.m. and each Wednesday from 9:15 p.m. until 9:45 p.m. during the period starting May 24, 2014, through August 30, 2014. Additionally, on the dates below during this period, this safety zone will be enforced with the following adjustments in times:

• Friday, July 4, 2014, from 9:15 p.m. until 10 p.m.;

• Saturday, August 9, 2014, from 9:15 p.m. until 9:45 p.m.;

• Saturday, October 25, 2014, from 9 p.m. until 10:30 p.m.; and

• Wednesday, December 31, 2014, from 11:45 p.m. until 12:30 a.m. on Thursday, January 1, 2015.

This safety zone encompasses the waters of Lake Michigan within Chicago Harbor bounded by coordinates beginning at 41°53′26.5″ N, 087°35′26.5″ W; then south to 41°53′7.6″ N, 087°35′26.3″ W; then west to 41°53′7.6″ N, 087°36′23.2″ W; then north to 41°53′26.5″ N, 087°36′24.6″ W; then east back to the point of origin (NAD 83). All vessels must obtain permission from the Captain of the Port, Lake Michigan, or his on-scene representative to enter, move within or exit the safety zone. Vessels and persons granted permission to enter the safety zone shall obey all lawful orders or directions of the Captain of the Port, Lake Michigan, or his on-scene representative.

This notice is issued under authority of 33 CFR 165.931 and 5 U.S.C. 552(a). In addition to this notice in the Federal Register, the Coast Guard will provide the maritime community with advance notification of these enforcement periods via broadcast Notice to Mariners or Local Notice to Mariners. If the Captain of the Port, Lake Michigan, determines that the safety zone need not be enforced for the full duration stated in this notice, he may use a Broadcast Notice to Mariners to grant general permission to enter the safety zone. The Captain of the Port, Lake Michigan, or his on-scene representative may be contacted via VHF Channel 16.

Dated: April 10, 2014.
K.M. Moser,
Commander, U.S. Coast Guard, Acting Captain of the Port, Lake Michigan.

[FR Doc. 2014-09058 Filed 4-21-14; 8:45 am]

BILLING CODE 9110-04-P